DEPARTMENT OF THE INTERIOR

Bureau of Indian Affairs

Muscogee (Creek) Nation Liquor and Beverage Code

AGENCY: Bureau of Indian Affairs, Interior.

ACTION: Notice.

SUMMARY: This notice publishes the Liquor and Beverage Code (Code) of the Muscogee (Creek) Nation. The Code regulates and controls the possession, sale and consumption of liquor within the Muscogee Creek Nation Indian Country (Tribal Lands) as defined by Federal law. The Code allows for the possession and sale of alcoholic beverages within the Tribal Lands. The Code will increase the ability of the tribal government to control the distribution and possession of liquor within their jurisdiction and at the same time will provide an important source of revenue and strengthening of the tribal government and the delivery of tribal services.

DATES: Effective Date: This Act is effective as of March 20, 2008.

FOR FURTHER INFORMATION CONTACT: Charles Head, Tribal Government Services Officer, Eastern Oklahoma Regional Office, Bureau of Indian Affairs, 3100 West Peak Blvd., Muskogee, Oklahoma 74402 ; Telephone (918) 781-4600; Fax (918) 781-4604; or Elizabeth Colliflower, Office of Indian Services, 1849 C Street, NW., Mail Stop 4513-MIB, Washington, DC 20240; Telephone (202) 513-7627; Fax (202) 208-5113.

SUPPLEMENTARY INFORMATION: Pursuant to the Act of August 15, 1953; Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian Country. The National Council of the Muscogee (Creek) Nation adopted this amendment to Title 36 of the Muscogee (Creek) Nation Code Annotated on June 30, 2007.

This notice is published in accordance with the authority delegated by the Secretary of the Interior to the Assistant Secretary—Indian Affairs. I certify that the National Council duly adopted amendment NCA 07-159 to the Muscogee (Creek) Nation Code Annotated on June 30, 2007.

Dated: March 14, 2008.
Carl J. Artman,
Assistant Secretary—Indian Affairs.

This amendment, NCA 07-159, to the Muscogee (Creek) Nation Code Annotated reads as follows:

NCA 07-159

CLASSIFICATION: #36. TAXATION AND REVENUE.

A LAW OF THE MUSCOGEE (CREEK) NATION AMENDING NCA 06-132 (A LAW OF THE MUSCOGEE (CREEK) NATION ENACTING A LIQUOR AND BEVERAGE CODE AND CODIFYING SAID LAW IN TITLE 36, “TAXATION AND REVENUE,” OF THE CODE OF LAWS OF THE MUSCOGEE (CREEK) NATION), AS AMENDED BY NCA 06-222.

Be it Enacted by the National Council of the Muscogee (Creek) Nation:

SECTION ONE. AMENDMENT. This amendment shall be codified in Title 36 of the Muscogee (Creek) Nation Code Annotated and shall read as follows:

Title 36. Taxation and Revenue

Chapter 7. Liquor and Beverage Code

Subchapter 1. General Provisions

Section 7-101. Findings. The National Council finds that:

A. It is the policy of the Nation to raise revenues through the collection of taxes for the sale and distribution of liquor and beer products within Muscogee (Creek) Nation Indian Country as defined by Federal law.

B. The Nation has a duty to provide for the health, safety, and welfare of its citizens.

C. As part of the Nation's responsibility to its citizens, the Nation must regulate and control the distribution, sale, and possession of alcoholic beverages on tribal lands located within Muscogee (Creek) Nation Indian Country as defined by Federal law.

D. Except as otherwise required by other applicable laws of the Muscogee (Creek) Nation or by any applicable Federal and State law, the provisions and requirements of this Chapter and any rules, regulations and licenses authorized hereunder shall apply to the sale and distribution of liquor and beer products on properties under the jurisdiction of the Nation.

Section 7-102. Purpose. The purpose of this Act is to regulate the sale and distribution of liquor and beer products on properties under the jurisdiction of the Muscogee (Creek) Nation and to generate an additional revenue base.

Section 7-103. Short Title and Codification. This Act shall be known and may be cited as the Muscogee (Creek) Nation Liquor and Beverage Code and shall be codified as Chapter 7 in Title 36, “Taxation and Revenue,” of the Code of Laws of the Muscogee (Creek) Nation.

Section 7-104. Authority. This Act is enacted pursuant to Article VI, § 7, of the Constitution of the Muscogee (Creek) Nation and the Congressional Act of August 15, 1953 (Pub. L. 83-277, 67 State. 588, 18 U.S.C. § 1161).

Section 7-105. Definitions. For purposes of this Chapter, the following words and phrases shall have the meanings respectively ascribed to them in this section, except where the context otherwise requires:

A. “Alcohol” means a substance known as ethyl alcohol, hydrated oxide of ethyl, or spirit of wine, which is produced by the fermentation or distillation of grain, starch, molasses, sugar, or other substances including all dilutions and mixtures of this substance.

B. “Beer” means any beverage containing less than or equal to three and two-tenths percent (3.2%) of alcohol by weight and obtained by the alcoholic fermentation of an infusion of decoction of pure hops, pure extract of barley or other grain, malt, sugar, or similar products.

C. “Beer Outlet” means the Muscogee (Creek) Nation's licensed retail sale business selling beer within the Muscogee (Creek) Nation Indian Country as defined by Federal law, including all related and associated facilities under the control of the Operator. Moreover, where an Operator's business is carried on as part of the operation of an entertainment or recreational facility, the “Beer Outlet” shall be deemed to include the entertainment or recreational facility and its associated areas.

D. “Commission” means the Muscogee (Creek) Nation Tax Commission as established pursuant to MCNCA Title 36, § 1-103.

E. “Commissioner” means the Muscogee (Creek) Nation Tax Commissioner as established pursuant to MCNCA Title 36, § 1-104.A.

F. “Liquor” means the four varieties of liquor commonly referred to as alcohol, spirits, wine and beer in excess of three and two-tenths percent (3.2%) of alcohol, and all fermented, spirituous, vinous or malt liquors or any other intoxicating liquid, solid, semi-solid or other substance patented or not, containing alcohol, spirits, wine or beer, in excess of three and two-tenths percent (3.2%) of alcohol, and is intended for oral consumption.

G. “Liquor Outlet” means the Muscogee (Creek) Nation's licensed retail sale business selling liquor within the Muscogee Indian Country as defined by Federal law, including all related and associated facilities under the control of the Operator. Moreover, where an Operator's business is carried on as part of the operation of an entertainment or recreational facility, the “Liquor Outlet” shall be deemed to include the entertainment or recreational facility and its associated areas.

H. “Nation” means the Muscogee (Creek) Nation as established under the Muscogee (Creek) Nation Constitution of 1979. Chartered communities of the Muscogee (Creek) Nation are considered component, inseparable subdivisions of the Muscogee (Creek) Nation and may only benefit from the rights and privileges from the Muscogee (Creek) Nation under this Chapter.

I. “National Council” means the Muscogee (Creek) Nation National Council as constituted by Article VI of the Constitution of the Muscogee (Creek) Nation.

J. “Operator” means a person twenty-one (21) years of age or older who is properly licensed by the Commission to operate a Liquor and/or Beer Outlet.

K. “Person” means a natural person, a partnership, an association of persons, a corporation, a firm, a limited liability company, a sole proprietorship, a trust, a joint venture, a consortium, a commercial entity, a Muscogee (Creek) Nation tribal entity, a Muscogee (Creek) Nation chartered Indian community, or an Indian tribe.

L. “Sale” means any transfer, exchange, or barter, in any manner or by any means whatsoever, for a consideration and includes and means all sales made by any person, whether as principal, proprietor or as an agent, servant, or employee, association, partnership, or corporation of liquor or beer products.

M. “Wholesaler” means and includes any person doing any such acts or carrying on any such business or businesses that would require such person to obtain a wholesaler's license or licenses hereunder.

N. “Wholesale price” means the established price for which liquor or beer are sold to the Muscogee (Creek) Nation or any Operator by the manufacturer or distributor or other reduction.

Section 7-106. Severability. In the event that any provision or provisions of this Act are determined by a court of competent jurisdiction to be invalid for any reason, the remaining provisions of the Act shall be deemed severable from the provision or provisions determined to be invalid and shall remain in full force and effect as though the invalid provisions had never been part of the Act.

Subchapter 2. Prohibition and Conformity With the Laws of the State of Oklahoma

Section 7-201. General Prohibition. It shall be unlawful to buy, sell, give away, consume, furnish, or possess any liquor or beer product containing alcohol for ingestion by human beings or to appear or be found in a place where liquor or beer products are sold and/or consumed, except as allowed for under this Act and the regulations promulgated hereunder.

Section 7-202. Possession for Personal Use. Possession of liquor or beer products for personal use by persons over the age of twenty-one (21) years shall, unless otherwise prohibited by Federal, State or Muscogee (Creek) Nation Law or Regulation, be lawful within the Muscogee (Creek) Nation Indian Country as defined by Federal law, so long as said liquor or beer product was lawfully purchased from an establishment duly licensed to sell said beverages, whether on or off the Muscogee (Creek) Nation Indian Country as defined by Federal law and consumed within a private residence or at a location or facility licensed for the public consumption of liquor or beer.

Section 7-203. Conformity with the Laws of the State of Oklahoma. Federal law prohibits the introduction, possession and sale of liquor in Indian Country (18 U.S.C. 1154 and other statutes), except when the same is in conformity both with laws of the State of Oklahoma and the Nation (18 U.S.C. 1161). As such, compliance with this Act shall be in addition to and not a substitute for compliance with the laws of the State of Oklahoma. Operators acting pursuant to this Act shall comply with the State of Oklahoma's liquor and beer laws to the extent required by 18 U.S.C. 1161. However, the Nation shall have the fullest jurisdiction allowed under the Federal laws over the sale of liquor and beer products, and related products or activities within Muscogee (Creek) Nation Indian County as defined by Federal law.

Subchapter 3. Licensing

Section 7-301. Licensing of Liquor and Beer Outlets. The Commission is empowered to do the following duties:

a. Administer this Act by exercising general control, management and supervision of all liquor and beer sales, places of sales and sale outlets, as well as exercising all powers necessary to accomplish the purposes of this Act; and,

b. Adopt and enforce rules and regulations in furtherance of the purposes of this Act and in the performance of its administrative functions.

Section 7-302. National Council Approval of Liquor and/or Beer Outlet Locations.

A. National Council Approval of Location. The National Council shall approve all Liquor and/or Beer Outlet locations located on Muscogee (Creek) Nation Indian Country as defined by Federal law by way of Tribal Resolution prior to the Commission issuing Licenses to said outlet locations.

B. National Council Location Review. The National Council may refuse to approve a Liquor and/or Beer Outlet Location located on the Muscogee (Creek) Nation Indian Country as defined by Federal law, pursuant to Section 7-302 of this Act, if the National Council has reasonable cause to believe that:

1. The proximity of the outlet has a detrimental effect upon a social or governmental institution established by the laws of the Muscogee (Creek) Nation; or

2. The outlet is within 50 feet of a residential area; or

3. There is any other reason as provided for and by Muscogee (Creek) Nation law or regulation.

Section 7-303. Application for Liquor and/or Beer Outlet Licenses.

A. Application. Any person twenty-one (21) years of age or older may apply to the Commission for a Liquor and/or Beer Outlet License.

B. Licensing Requirements. The person applying for said license must make a showing once a year and must satisfy the Commission that:

1. He/she is a person of good moral character;

2. He/she has never been convicted of violating any laws prohibiting the traffic in any spirituous, vinous, fermented or malt liquors, or of the gaming laws of the Nation, State of Oklahoma, any other Nation or any State of the United States;

3. He/she has never violated the laws commonly called the “Prohibition laws,” as defined hereunder or under any subsequent regulations; and,

4. He/she has not had any permit or license to sell alcohol, beer or liquor as provided for in § 7-105 hereof revoked by any governmental authority within the previous one (1) year.

C. Processing Application. The Commissioner shall receive and process applications and be the official representative of the Nation and the Commission in all matters related to the receipt of applications, liquor and beer excise tax collections and any other related matters. If the Commission or its authorized representative is satisfied that the applicant is suitable and a responsible person, the Commission or its authorized representative may issue a license for the sale of liquor and/or beer products.

D. Application Fee. Each application shall be accompanied by an application fee to be set by regulations of the Commission.

E. Discretionary Licensing. Nothing herein shall be deemed to create a duty or requirement to issue a license. Issuance of a license is discretionary based upon the Commission's determination of the best interests of the Nation. A license is a privilege, and not a property right, to sell liquor and/or beer products within the jurisdiction of the Muscogee (Creek) Nation at licensed locations, but not operate to confer on, vest in, or license any title, interest or estate in Muscogee (Creek) Nation real property.

Section 7-304. Liquor and/or Beer Outlet Licenses. Upon approval of an application, the Commission shall issue the applicant a liquor and/or beer license (“License”) which shall be valid for one (1) year from the date of issuance. The License shall entitle the Operator to establish and maintain only the type of outlet permitted on the license. This License shall not be transferable. The Operator must properly and publicly display the License in its place of business. The License shall be renewable at the discretion of the Commission; provided that the Operator submits an application form and application fee as provided for in Section 7-303. D. of this Act.

Section 7-305. Other Business by Operator. An Operator may conduct another business simultaneously with managing a Liquor and/or Beer Outlet; provided if such other business is in any manner affiliated or related to the Liquor and/or Beer Outlet and is not regulated by another entity of the Nation it must be approved by the Commission prior to the initiation. Said other business may be conducted on same premise as a Liquor and/or Beer Outlet, but the Operator shall be required to maintain separate account books for the other business.

Section 7-306. Revocation of Operator's License.

A. Failure of an Operator to abide by the requirements of this Act and any additional regulations or requirements imposed by the Commission shall constitute grounds for revocation of the Operator's License as well as enforcement of the penalties provided for in Section 7-701 of this Act.

B. Upon determining that any person licensed by the Nation to sell liquor and/or beer is for any reason no longer qualified to hold such license or reasonably appears to have violated any terms of this license or Muscogee (Creek) Nation regulations, including failure to pay taxes when due and owing, or have been found by any forum of competent jurisdiction, including the Commission, to have violated the terms of the Nation's or the State of Oklahoma's license or of any provision of this Act, the Commissioner shall immediately serve written notice upon the Operator that he/she must show cause within ten (10) days as to why his/her license should not be revoked or restricted. The notice shall state the grounds relied upon for the proposed revocation or restriction.

C. If the Operator fails to respond to the notice within ten (10) days of service, the Commissioner may issue an Order revoking the License as the Commissioner deems appropriate, effective immediately. The Operator may within the ten (10)-day period file with the Commission a written response and request for hearing before the Commission.

D. At the hearing, the Operator may present evidence and argument directed at the issue of whether or not the asserted grounds for the proposed revocation or restriction are in fact true, and whether such grounds justify the revocation or modifications of the License. The Nation may present evidence as it deems appropriate.

E. The Commission, after considering all of the evidence and arguments, shall issue a written decision either upholding the License, revoking the License or imposing some lesser penalty (such as temporary suspension or fine), and such decision shall be final and conclusive with regard to the Commission.

F. The Commission's final decision may be appealed by the Operator to the Muscogee (Creek) Nation District Court. Any findings of fact of the Commission are conclusive upon the District Court. The purposes of the District Court review are not to substitute the Court's finding of facts or opinion for the Commission's, but to guarantee due process of law. If the District Court should rule for the appealing party, the District Court may order a new hearing giving such guidance for the conduct of such as it deems necessary for a fair hearing. In the event a party is unsuccessful before the District Court, they may exercise such appeal rights as available before the Muscogee (Creek) Nation Supreme Court. No damages or monies may be awarded against the Commission, its members nor the Nation, and its agents, officers and employees in such an action.

Section 7-307. Discretionary Review. The Commission may refuse to grant a License for the sale of liquor and/or beer products, if the Commission has reasonable cause to believe that the License required by this Act has been obtained by fraud or misrepresentation. The Commission upon proof that said License was so obtained shall upon hearing revoke the same, and all funds paid therefore shall be forfeited.

Subchapter 4. Liquor and Beer Sales and Transportation

Section 7-401. Sales by Liquor and Beer Wholesalers and Transport of Liquor and Beer upon Muscogee (Creek) Nation Indian Country.

A. Right of Commission to Scrutinize Suppliers. The Operator of any licensed outlet shall keep the Commission informed, in writing, of the identity of the suppliers and/or wholesalers who supply or are expected to supply liquor and/or beer products to the outlet(s). The Commission may, at its discretion, limit or prohibit the purchase of said products from a supplier or wholesaler for the following reasons: non-payment of Muscogee (Creek) Nation taxes, bad business practices, or sale of unhealthy supplies. A ten (10)-day notice of stopping purchases (“Stop Purchase Order”) shall be given by the Commission whenever purchases from a supplier or wholesaler are to be discontinued unless there is a health emergency, in which case the Stop Purchase Order may take effect immediately.

B. Freedom of Information from Suppliers/Wholesalers. Operators shall in their purchase of stock and in their business relations with suppliers and wholesalers cooperate with and assist in the free flow of information and data to the Commission from suppliers and wholesalers relating to the sales and business arrangements between suppliers and Operators. The Commission may, at its discretion, require the receipts from the suppliers of all invoices, bills of lading, billings or documentary receipts of sales to the Operators. All records shall be kept according to Section 7-402. G. of this Act.

Section 7-402. Sales by Retail Operators; Wholesalers/Operators Records.

A. Commission Regulations. The Commission shall adopt regulations that shall supplement this Act and facilitate their enforcement. These regulations shall include prohibitions on sales to minors, where liquor and/or beer may be consumed, persons not allowed to purchase liquor and/or beer, hours and days when outlets may be open for business and any other appropriate matters and controls.

B. Sales to Minors. No person shall give, sell or otherwise supply any liquor and/or beer to any person under the age of twenty-one (21) years of age either for his or her own use or for the use of any other person.

C. Consumption of Liquor and/or Beer upon Licensed Premises. No Operator shall permit any person to open or consume liquor and/or beer on his/her premises and in his/her control unless the Commission allows the consumption of liquor and/or beer and identifies where liquor and/or beer may be consumed on Muscogee (Creek) Indian Country as defined by Federal law.

D. Conduct on Licensed Premises.

1. No Operator shall be disorderly, boisterous or intoxicated on the licensed premises or any public premises adjacent thereto which are under his/her control, nor shall he/she permit disorderly, boisterous or intoxicated person to be thereon; nor shall he/she use or allow the use of profane or vulgar language thereon.

2. No Operator shall permit suggestive, lewd or obscene conduct or acts on his/her premises. For the purpose of this section, suggestive, lewd or obscene conduct or acts shall be those conduct or acts identified as such by Federal, State of Oklahoma and/or the laws of the Nation.

E. Employment of Minors. No person under the age of twenty-one (21) years of age shall be employed in any service in connection with the sale or handling of liquor or beer, either on a paid or voluntary basis.

F. Operator's Premises Open to Commission Inspection. The premises of all Operators, including vehicles used in connection with liquor and/or beer sales, shall be open during business hours and at all reasonable times to inspection by the Commission.

G. Wholesaler's/Operator's Records. The originals or copies of all sales slips, invoices and other memoranda covering all purchases of liquor and/or beer by the Operator or Wholesaler shall be kept on file in the retail premises of the Operator or Wholesaler purchasing the sales at least five (5) years after each purchase and shall be filed separately and kept apart from all other records, and as nearly as possible, shall be filed in consecutive order and each month's records kept separate so as to render the same readily available for inspection and checking. All cancelled checks, bank statements, and books of accounting, covering and involving the purchase of liquor and/or beer and all memoranda, if any, showing payment of money for liquor and/or beer other than by check shall be likewise preserved for availability for inspection and checking.

H. Records Confidential. All records of the Commission showing the purchase of liquor by any individual or group shall be confidential and shall not be inspected except by members of the Commission or the Nation's Attorney General's Office.

Section 7-403. Transportation Through Muscogee (Creek) Nation Indian Country Not Affected. Nothing herein shall pertain to the otherwise lawful transportation of liquor and/or beer through the Muscogee (Creek) Nation Indian Country as defined by Federal law by persons remaining upon public roads and highways and where such beverages are not delivered, sold or offered for sale to anyone within the Muscogee (Creek) Nation Indian Country as defined by Federal law.

Subchapter 5. Taxation and Audits

Section 7-501. Excise Tax Imposed Upon Distribution of Liquor and/or Beer and Use of Such Tax.

A. General Taxation Authority. The Commission shall have the authority to assess and collect tax on the sale of liquor and/or beer products to the purchaser or consumer. This tax shall be collected and paid to the Commission upon all liquor and/or beer products sold within the jurisdiction of the Nation. The Nation does hereby establish such a rate of six percent (6%) and may establish differing rates for any given class of merchandise, which shall be paid prior to the time of retail sale and delivery thereof.

B. Added to Retail Price. An excise tax to be set by the Muscogee (Creek) Nation on the wholesale price shall be added to the retail selling price of liquor and/or beer products to be sold to the ultimate consumer or purchaser in the amount of six percent (6%). All taxes paid pursuant to this Act shall be conclusively presumed to be direct taxes on the retail consumer pre-collected for the purpose of convenience and facility.

C. Tax Stamp. Within seventy-two (72) hours after receipt of any liquor and/or beer products by any wholesaler or retailer subject to this Act, a Muscogee (Creek) Nation tax stamp shall be securely affixed thereto denoting the Muscogee (Creek) Nation tax thereon. Retailers or sellers of liquor and/or beer products within the Nation's jurisdiction may buy and sell or have in their possession only liquor and/or beer products which have the Muscogee (Creek) Nation tax stamp affixed to each package.

D. Use of Tax Revenue. Of the 6% excise tax imposed and levied hereunder, 1% shall be earmarked for expenditure on the establishment and maintenance of drug and alcohol prevention and treatment programs within the jurisdictional boundaries of the Muscogee (Creek) Nation, 1% shall be deposited in the Nation's Capital Improvements Fund Account; and the remaining 4% shall be transferred to the Muscogee (Creek) Nation Controller for deposit in to the General Fund and shall be available for appropriation by the National Council for essential government functions and/or services.

Section 7-502. Audits and Inspections.

A. Inspections. All of the books and other business records of the Outlet shall be available for inspection and audit by the Commission or its authorized representative during normal business hours and at all other reasonable times, as may be requested by the Commission.

B. Bond for Excise Tax. The excise tax together with reports on forms to be supplied by the Commission shall be remitted to the Commission on a monthly basis unless otherwise specified in writing by the Commission. The Operator shall furnish a satisfactory bond to the Commission in an amount to be specified by the Commission guaranteeing his or her payment of excise taxes.

Subchapter 6. Liability, Insurance and Sovereign Immunity

Section 7-601. Liability for Bills. The Muscogee (Creek) Nation and the Commission shall have no legal responsibility for any unpaid bills owed by a Liquor and/or Beer Outlet to a wholesaler, supplier, or any other person.

Section 7-602. Muscogee (Creek) Nation Liability and Credit.

A. Liability. Unless explicitly authorized by Muscogee (Creek) Nation statute or regulation, Operators are forbidden to represent or give the impression to any supplier or person with whom he or she does business that he or she is an official representative of the Nation or the Commission authorized to pledge Muscogee (Creek) Nation credit or financial responsibility for any of the expenses of his or her business operation. The Operator shall hold the Nation harmless from all claims and liability of whatever nature. The Commission shall revoke an Operator's outlet license(s) if said outlet(s) is not operated in a businesslike manner or if it does not remain financially solvent or does not pay its operating expenses and bills before they become delinquent.

B. Insurance. The Operator shall maintain at his or her own expense adequate insurance covering liability, fire, theft, vandalism and other insurable risks. The Commission may establish as a condition of any license, the required insurance limits and any additional coverage deemed advisable, proof of which shall be filed with the Commission.

Section 7-603. Sovereign Immunity. Nothing in this Act shall be construed as a waiver or a limitation of the sovereign immunity of the Muscogee (Creek) Nation or its agencies, nor their officers or employees. To the fullest extent possible, the Muscogee (Creek) Nation expressly retains its sovereign immunity for the purposes of enactment of this Act.

Subchapter 7. Enforcement

Section 7-701. Violations and Penalties. Any person who violates this Act or elicits, encourages, directs, or causes to be violated this Act, or Acts in support of this Act, or regulations of the Commission shall be guilty of an offense and subject to fine. Failure to have a current, valid or proper license shall not constitute a defense to an alleged violation of the licensing laws and/or regulations. The judicial system of the Muscogee (Creek) Nation shall have exclusive jurisdiction over said proceeding(s).

A. Any Indian person convicted of committing any violation of this Act shall be subject to punishment of up to one (1) year imprisonment and/or a fine not to exceed Five Thousand Dollars ($5,000).

B. Additionally, any person upon committing any violation of any provision of this Act may be subject to civil action for trespass and upon having been determined by the Muscogee (Creek) Nation District Court to have committed said violation, shall be found to have trespassed upon the lands of the Nation and shall be assessed such damages as the Muscogee (Creek) Nation District Court system deems appropriate in the circumstances.

C. Any person suspected or having violated any provision of this Act shall, in addition to any other penalty imposed hereunder, be required to surrender any liquor and/or beer products in the person's possession to the officer making the complaint. The surrendered beverages, if previously unopened, shall only be returned upon a finding by the Muscogee (Creek) Nation District Court, after trial or proper judicial proceeding, that the individual committed no violation of this Act.

D. Any Operator who violates the provisions set forth herein shall forfeit all of the remaining stock in the outlet(s). The Commission shall be empowered to seize forfeited products.

E. Any stock, goods or other items subject to this Act that have not been registered, licensed or taxes paid shall be contraband and subject to immediate confiscation by the Commission or its employees or agents; provided that within fifteen (15) days of the seizure the Commission shall cause to be filed an action against such property alleging the reason for the seizure or confiscation and upon proof, the Muscogee (Creek) Nation District Court shall order the property forfeited and vested with the Nation.

SECTION TWO. REPEALER. Any and all previous liquor and beer Acts of the Muscogee (Creek) Nation are hereby repealed, any Acts in direct conflict with this Act are hereby impliedly repealed, and this Act shall have the full force and effect as Muscogee (Creek) Nation.

SECTION THREE. EFFECTIVE DATE. This Act shall become effective upon publication by the United States Department of the Interior's certification notice in the Federal Register.

[FR Doc. E8-5627 Filed 3-19-08; 8:45 am]

BILLING CODE 4310-4J-P